DEPARTMENT OF THE INTERIOR

Bureau of Land Management

[17X LLWO600000.L18200000.XP0000]

John Day—Snake Resource Advisory Council, Oregon; Postponement of Meeting

AGENCY: Bureau of Land Management, Interior.

ACTION: Notice.

SUMMARY: The May 18 and 19, 2017, John Day—Snake Resource Advisory Council meeting has been postponed.

DATES: The meeting was scheduled for May 18 and 19, 2017, in Baker City, Oregon, and will be rescheduled at a later date. We will publish a future notice with the new meeting date and location.

FOR FURTHER INFORMATION CONTACT: Lisa Clark, Public Affairs Officer, BLM Prineville District Office, (541) 416-6700; or by email at lmclark@blm.gov. Persons who use a telecommunications device for the deaf (TDD) may call the Federal Relay Service (FRS) at 1-800-877-8339 to leave a message or question for Ms. Clark. The FRS is available 24 hours a day, 7 days a week. You will receive a reply during normal business hours.

SUPPLEMENTARY INFORMATION: The 15-member council advises the Secretary of the Interior, through the BLM, on a variety of planning and management issues associated with public land management in central and eastern Oregon. Additional information is available in the meeting notice published on April 13, 2017 (82 FR 17852).

Authority: 5 U.S.C. Appendix 2.

Patrick Wilkinson,
Acting Assistant Director, Communications.

[FR Doc. 2017-09005 Filed 5-3-17; 8:45 am]

BILLING CODE 4310-84-P